ENVIRONMENTAL PROTECTION AGENCY

[EPA-HQ-RCRA-2013-0405, FRL-9901-88-OEI]

Information Collection Request Submitted to OMB for Review and Approval; Comment Request; Information Requirements for Boilers and Industrial Furnaces (Renewal)

AGENCY: Environmental Protection Agency (EPA).

ACTION: Notice.

SUMMARY: The Environmental Protection Agency has submitted an information collection request (ICR), “Information Requirements for Boilers and Industrial Furnaces (Renewal)” (EPA ICR No. ICR No. 1361.16, OMB Control No. 2050-0073) to the Office of Management and Budget (OMB) for review and approval in accordance with the Paperwork Reduction Act (44 U.S.C. 3501 et seq.). This is a proposed extension of the ICR, which is currently approved through October 31, 2013. Public comments were previously requested via the Federal Register (78 FR 38713) on June 27, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before November 22, 2013.

ADDRESSES: Submit your comments, referencing Docket ID No. EPA-HQ-RCRA-2013-0405, to: (1) EPA, either online using www.regulations.gov (our preferred method), or by email to rcra-docket@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Peggy Vyas, Office of Resource Conservation and Recovery (mail code 5303P), Environmental Protection Agency, 1200 Pennsylvania Ave. NW., Washington, DC 20460; telephone number: 703-308-5477; fax number: 703-308-8433; email address: vyas.peggy@epa.gov.

SUPPLEMENTARY INFORMATION: Supporting documents which explain in detail the information that the EPA will be collecting are available in the public docket for this ICR. The docket can be viewed online at www.regulations.gov or in person at the EPA Docket Center, WJC West, Room 3334, 1301 Constitution Ave., NW., Washington, DC. The telephone number for the Docket Center is 202-566-1744. For additional information about EPA's public docket, visit http://www.epa.gov/dockets.

Abstract: EPA regulates the burning of hazardous waste in boilers, incinerators, and industrial furnaces (BIFs) under 40 CFR parts 63, 264, 265, 266 and 270. This ICR describes the paperwork requirements that apply to the owners and operators of BIFs. This includes the requirements under the comparable/syngas fuel specification at 40 CFR 261.38; the general facility requirements at 40 CFR parts 264 and 265, subparts B thru H; the requirements applicable to BIF units at 40 CFR part 266; and the RCRA Part B permit application and modification requirements at 40 CFR part 270.

Form Numbers: None.

Respondents/affected entities: Businesses or other for-profits.

Respondent's obligation to respond: Mandatory (per 40 CFR 264, 265, and 270).

Estimated number of respondents: 114.

Frequency of response: On occasion.

Total estimated burden: 291,757 hours per year. Burden is defined at 5 CFR 1320.03(b).

Total estimated cost: $39,476,994 (per year), includes $9,839,942 annualized capital $11,164,608 operation & maintenance costs.

Changes in the Estimates: There is an increase of 52,972 hours in the total estimated respondent burden compared with the ICR currently approved by OMB. This increase is due to an increase in universe size.

John Moses,
Director, Collection Strategies Division.

[FR Doc. 2013-24791 Filed 10-22-13; 8:45 am]

BILLING CODE 6560-50-P